DEPARTMENT OF TRANSPORTATION

Federal Motor Carrier Safety Administration

[Docket No. FMCSA-2012-0209]

Agency Information Collection Activities; Reinstatement With Change of a Currently-Approved Information Collection Request: Information Technology Services Survey Portal Customer Satisfaction Assessment (Formerly COMPASS Portal Consumer Satisfaction Assessment)

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invite public comment. The collection involves the assessment of FMCSA's strategic decision to integrate its Information Technology (IT) with its business processes using portal technology to consolidate its systems and databases through the FMCSA Information Technology Services Survey modernization initiative. The information to be collected will be used to assess the satisfaction of Federal, State, and industry customers with the FMCSA Information Technology Services Survey Portal. The “COMPASS Portal Customer Satisfaction Assessment,” ICR is being changed to the “Information Technology Services Survey Portal Customer Satisfaction Assessment,” to reflect the need for a broader term than “COMPASS” for the portal.

DATES: Please send your comments by January 22, 2013. OMB must receive your comments by this date in order to act on the ICR.

ADDRESSES: All comments should reference Federal Docket Management System (FDMS) Docket Number FMCSA-2012-0209. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Katherine Sinrud, Department of Transportation, Federal Motor Carrier Safety Administration, West Building 6th Floor, 1200 New Jersey Avenue SE., Washington, DC 20590. Telephone: 202-366-3843; email: katherine.sinrud@dot.gov.

SUPPLEMENTARY INFORMATION: Title: Information Technology Services Survey Portal Customer Satisfaction Assessment.

OMB Control Number: 2126-0042.

Type of Request: Revision of a currently-approved information collection request.

Respondents: Federal, State, and industry customers/users.

Estimated Number of Respondents: 3,392.

Estimated Time per Response: Five (5) minutes.

Expiration Date: 11/30/2012.

Frequency of Response: 4 times per year.

Estimated Total Annual Burden: 283 hours [91 hours (273 industry user respondents × 5 minutes/60 minutes to complete survey × 4 times per year) + 192 hours (575 Federal and State government respondents × 5 minutes/60 minutes to complete survey × 4 times per year) = 283].

Background

Title II, section 207 of the E-Government Act of 2002 requires Government agencies to improve the methods by which Government information, including information on the Internet, is organized, preserved, and made accessible to the public. To meet this goal, FMCSA plans to provide a survey on the FMCSA Portal, allowing users to assess its functionality. This functionality includes the capability for Federal, State, and industry users to access the Agency's existing safety IT systems with a single set of credentials and have easy access to safety data about the companies that do business with FMCSA. The IT program will also focus on improving the accuracy of data to help ensure information, such as carrier name and address, is valid and reliable.

FMCSA's legacy information systems are currently operational. However, having this many stand-alone systems has led to data quality concerns, a need for excessive identifications (IDs) and passwords, and significant operational and maintenance costs. Integrating our information technologies with our business processes will in turn, improve our operations considerably, particularly in terms of data quality, ease of use, and reduction of maintenance costs.

In early 2007, FMCSA's IT program launched a series of releases of a new FMCSA Portal to its Federal, State and Industry customers. Over the coming years, more than 15 releases are planned. These releases will use portal technology to fuse and provide numerous services and functions via a single user interface and provide tailored services that seek to meet the needs of specific constituencies within our customer universe.

The FMCSA Information Technology Services Survey Portal will entail considerable expenditure of Federal Government dollars over the years and will fundamentally impact the nature of the relationship between the Agency and its Federal, State, and industry customers. Consequently, the Agency intends to conduct regular and ongoing assessments of customer satisfaction with the Information Technology Services Survey.

The primary purposes of this assessment are to:

• Determine the extent to which the FMCSA Portal functionality continues to meet the needs of Agency customers;

• Identify and prioritize additional modifications; and

• Determine the extent that the FMCSA Portal has impacted FMCSA's relationships with its main customer groups.

The assessment will address:

• Overall customer satisfaction;

• Customer satisfaction against specific items;

• Performance of systems integrator against agreed objectives;

• Desired adjustments and modifications to systems;

• Demonstrated value of investment to FMCSA and DOT;

• Items about the FMCSA Portal that customers like best;

• Customer ideas for making the FMCSA Portal better.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued on: December 10, 2012.
Kelly Leone,
Associate Administrator for Office of Research and Information Technology.

[FR Doc. 2012-30638 Filed 12-19-12; 8:45 am]

BILLING CODE 4910-EX-P